DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: American Fisheries Act: Vessel and Processor Permit Applications.

Form Number(s): None.

OMB Approval Number: 0648-0393.

Type of Request: Regular submission.

Burden Hours: 29.

Number of Respondents: 11.

Average Hours per Response: Inshore catcher vessel cooperative permit, 2 hours and 30 minutes; and replacement vessel permit, 30 minutes.

Needs and Uses: Under the authority of the Magnuson-Stevens Fishery Conservation and Management Act (16 U.S.C. 1801 et seq.) National Marine Fisheries Service (NMFS) manages the groundfish fisheries in the exclusive economic zone (EEZ) off Alaska through fishery management plans. Regulations that implement those fishery management plans appear at 50 CFR part 679. The American Fisheries Act, 16 U.S.C. 1851 note (AFA) provided a new program for the Bering Sea and Aleutian Islands (BSAI) pollock fishery. In response to the AFA, NMFS developed a management program for BSAI pollock to include a set of permits for AFA catcher/processors, AFA catcher vessels, AFA inshore processors, AFA motherships, and AFA cooperatives. The vessels and processors in the BSAI pollock fishery are required to have valid AFA permits on board the vessel or at the processing plant, in addition to any other Federal or State permits.

Affected Public: Business or other for-profit organizations; individuals or households.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: May 22, 2006.
Gwellnar Banks,
Management Analyst, Office of the Chief Information Officer.

[FR Doc. E6-8212 Filed 5-26-06; 8:45 am]

BILLING CODE 3510-22-P